DEPARTMENT OF THE INTERIOR

National Park Service

[NPS-WASO-NAGPRA-NPS0040086; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH) has completed an inventory of human remains and associated funerary objects and has determined that there is a cultural affiliation between the human remains and associated funerary objects and Indian Tribes or Native Hawaiian organizations in this notice.

DATES: Repatriation of the human remains and associated funerary objects in this notice may occur on or after June 9, 2025.

ADDRESSES: Megan Fry, University of Florida, Florida Museum of Natural History, 1659 Museum Road, Gainesville, FL 32611, telephone (352) 273-1921, email megan.fry@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing, at least, 13 individuals have been identified from the Casey Key/Synder Site (8SO17), in Sarasota County, Florida. The 80 associated funerary objects include fragmentary pottery, wood, stone, shell, glass, faunal bone, botanicals and soil.

This burial mound and accompanying shell ridge were located along the water's edge. The site was severely disturbed by development and construction. It dates to the Weedon Island period and is believed to have been contemporary with the Palmer Burial Mound site. Ripley P. Bullen and Adelaide K. Bullen visited the site in 1959, learning that the site had been looted by school students who sold the human remains they found sometime in the 1940s and in 1985 Marquardt again assessed the sites history while conducting archaeological reconnaissance on Casey Key, Sarasota, Florida.

The site came to the FLMNH through various accessions. Accession 3923 was collected by Hilton Leech on January 31, 1954, from a shell drift and presented the artifacts to FLMNH. Accession 3942 was again collected by Hilton Leech from a burial mound on August 9, 1955, and presented to the FLMNH. Accession 76-70 was transferred from the University of Florida Department of Anthropology in the summer of 1976. Accession 71-51 was a bulk transfer from the University of Florida Anthropology department. Accession 2000-4 was excavated by William H. Marquardt and Karen Jo Walker at a construction site on Donald Snyder's property on June 18, 1985. The construction firm working on the property was called The Twitchell Group Architects, Sarasota. During the time of excavation, it was unclear if this site was a part of 8SO17 or a separate site, so they named it Snyder Site. It was determined that the site was in fact part of the 8SO17 accession of Casey Key and not a separate site. They returned to the site on September 9 to determine that the site was a part of 8SO17. Accession 2002-63 was first donated to Carlyle Luer, reportedly collected from Casey Key burial mound during the 1950s and in December of 2003, the collection was donated to the FLMNH by George Luer.

Cultural Affiliation

Based on the information available and the results of consultation, cultural affiliation is clearly identified by the information available about the human remains and associated funerary objects described in this notice to be associated with the Seminole Tribe of Florida.

Determinations

The FLMNH has determined that:

• The human remains described in this notice represent the physical remains of 13 individuals of Native American ancestry.

• The 80 objects described in this notice are reasonably believed to have been placed intentionally with or near individual human remains at the time of death or later as part of the death rite or ceremony.

• There is a connection between the human remains and associated funerary objects described in this notice and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after June 9, 2025. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: April 22, 2025.
Melanie O'Brien,
Manager, National NAGPRA Program.

[FR Doc. 2025-08028 Filed 5-7-25; 8:45 am]

BILLING CODE 4312-52-P